DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, e-mail paperwork@hrsa.gov or call the HRSA Reports Clearance Office on (301) 443-1129.

The following request has been submitted to the Office of Management and Budget for review under the Paperwork Reduction Act of 1995:

Proposed Project: The Nursing Education Loan Repayment Program Application (OMB No. 0915-0140)—Revision

This is a request for revision of the Nursing Education Loan Repayment Program (NELRP) application and participant monitoring forms. The NELRP is authorized by 42 U.S.C. 297n(a) (section 846(a) of the Public Health Service Act, as amended by Public Law 107-205, August 1, 2002 and Public Law 111-148, March 23, 2010).

Under the NELRP, registered nurses and nurse faculty are offered the opportunity to enter into a contractual agreement with the Secretary to receive loan repayment for up to 85 percent of their qualifying educational loan balance as follows: 30 percent each year for the first 2 years and 25 percent for the optional third year. In exchange, the nurses agree to serve full-time for a minimum of 2 years as a registered nurse at a health care facility with a critical shortage of nurses or as nurse faculty at an eligible school of nursing. The NELRP forms provide information that is needed for selecting participants, repaying qualifying loans for education, and monitoring compliance with service requirements. The NELRP forms include the following: The NELRP Application, the Loan Information and Verification form, the Employment Verification and Critical Shortage Facility form, the Employment Verification for Nurse Faculty Appointment, the Authorization for Release of Employment Information form, the Authorization to Release Information form, the Certification Regarding Debarment, Suspension, Disqualification and Related Matters form, the Certification of Accreditation Status for School of Nursing Education Programs form, the NELRP Application Checklist and Self-Certification form, the Verification of Acceptance or Decline of Award form and the Participant Semi-Annual Employment Verification form.

The estimates of reporting burden for Applicants are as follows:

Instrument | Number of respondents | Responses/ respondents | Total responses | Hours per response | Total burden hours
NELRP Application | 8,000 | 1 | 8,000 | 1.5 | 12,000
Loan Information and Verification Form | 8,000 | 3 | 24,000 | 1 | 24,000
Employment Verification and Critical Shortage Facility Form | 7,500 | 1 | 7,500 | .50 | 3,750
Employment Verification for Nurse Faculty Appointment Form | 500 | 1 | 500 | .25 | 125
Authorization for Release of Employment Information Form | 8,000 | 1 | 8,000 | .10 | 800
Authorization to Release Information Form | 8,000 | 1 | 8,000 | .10 | 800
Certification Regarding Debarment, Suspension, Disqualification and Related Matters Form | 8,000 | 1 | 8,000 | .10 | 800
Certification Of Accreditation Status for School of Nursing Education Programs Form | 500 | 1 | 500 | .10 | 50
Application Checklist and Self-Certification Form | 8,000 | 1 | 8,000 | .50 | 4,000
The Verification of Acceptance or Decline of Award form | 1,200 | 1 | 1,200 | .25 | 300
Total |  |  | 73,700 |  | 46,625

The annual estimate of burden for Participants is as follows:

Participant Semi-Annual Employment Verification Form | 2,300 | 2 | 4,600 | .5 | 2,300
Total | 2,300 | 2 | 4,600 | .5 | 2,300

Written comments and recommendations concerning the proposed information collection should be sent within 30 days of this notice to the OMB desk officer for HRSA, either by e-mail to OIRA_submission@omb.eop.gov or by fax to 202-395-6974. Please direct all correspondence to the “attention of the OMB desk officer for HRSA.”

Dated: December 21, 2010.
Robert Hendricks,
Director, Division of Policy and Information Coordination.

[FR Doc. 2010-32561 Filed 12-27-10; 8:45 am]

BILLING CODE 4165-15-P